DEPARTMENT OF AGRICULTURE

Forest Service

Willamette Provincial Advisory Committee (PAC)

AGENCY: Forest Service, USDA.

ACTION: Action of meeting.

SUMMARY: The Willamette Province Advisory Committee (PAC) will meet on Thursday June 20, 2002. The meeting is scheduled to begin at 9 a.m., and will conclude at approximately 3 p.m. The meeting will be held at the Alton Collins Retreat Center, 32867 SE Highway 211, Eagle Creek, Oregon, 97022. This is a joint meeting with Deschutes Advisory Committee. The tentative agenda includes: (1) Introductions, (2) Public Forum, (3) Mt. Hood NF Recreation Strategy presentation, (4) PAC Information Sharing and (5) Northwest Forest Plan update.

The Public Forum is tentatively scheduled to begin at 10:15 a.m. Time allotted for individual presentations will be limited to 3 minutes. Written comments are encouraged, particularly if the material cannot be presented within the time limits for the Public Forum. Written comments may be submitted prior to the June 20 meeting by sending them to Designated Federal Official Neal Forrester at the address given below.

FOR FURTHER INFORMATION CONTACT: For more information regarding this meeting, contact Designated Federal Official Neal Forrester; Willamette National Forest; 211 East Seventh Avenue; Eugene, Oregon 97401; (541) 225-6436.

Dated: May 21, 2002.
Y. Robert Iwamoto,
Acting Forest Supervisor.

[FR Doc. 02-13314 Filed 5-28-02; 8:45 am]

BILLING CODE 3410-11-M